DEPARTMENT OF JUSTICE

Notice of Lodging of Proposed Consent Decree Under the Clean Water Act

On August 5, 2020, the Department of Justice lodged a proposed Consent Decree with the United States District Court for the District of Colorado in the lawsuit entitled United States v. Groendyke Transport Inc., Civil Action No. 1:20-cv-02311.

This civil action asserts claims for penalties against Groendyke Transport Inc. Groendyke, as the legal successor to Manweiler Transport Company (Transport), for violations of Section 311(b)(3) of the Clean Water Act (CWA), 33 U.S.C. 132l(b)(3), for the unpermitted discharge on August 26, 2016, of petroleum product into or upon navigable waters of the United States and their adjoining shorelines. The Consent Decree requires the defendant to pay a civil penalty of $225,000 to settle the claims against it. In return, the United States will grant Groendyke Transport Inc. a covenant not to sue or take administrative action pursuant to the Clean Water Act for the civil violations alleged in the Complaint, filed simultaneously with the Consent Decree.

The publication of this notice opens a period for public comment on the Consent Decree. Comments should be addressed to the Assistant Attorney General, Environment and Natural Resources Division, and should refer to United States v. Groendyke Transport Inc., D.J. Ref. No. 90-5-1-1-12121. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $3.75 (25 cents per page reproduction cost) payable to the United States Treasury.

Jeffrey Sands,
Assistant Section Chief, Environmental Enforcement Section, Environment and Natural Resources Division.

[FR Doc. 2020-17879 Filed 8-14-20; 8:45 am]

BILLING CODE 4410-15-P